DEPARTMENT OF COMMERCE

Foreign-Trade Zones Board

[Docket 55-2002]

Foreign-Trade Zone 222—Montgomery, AL, Application for Subzone Status, Hyundai Motor Manufacturing Alabama, LLC, Plant (Motor Vehicles), Montgomery, AL

An application has been submitted to the Foreign-Trade Zones Board (the Board) by the Montgomery Area Chamber of Commerce, grantee of FTZ 222, requesting special-purpose subzone status for the motor vehicle manufacturing plant of Hyundai Motor Manufacturing Alabama, LLC, (HMM)(a subsidiary of Hyundai Motor Co., of South Korea) located in Montgomery, Alabama. The application was submitted pursuant to the provisions of the Foreign-Trade Zones Act, as amended (19 U.S.C. 81a-81u), and the regulations of the Board (15 CFR part 400). It was formally filed on November 27, 2002.

The HMM plant (1,752 acres/2.1 million sq.ft.) is to be located at 1500 Montgomery County Road 42 (Teague Road), between Interstate 65 and the main line of the CSX Railroad, in Montgomery (Montgomery County), Alabama. The facility, currently under construction, will be used to produce light-duty passenger vehicles (sedans, sport utility vehicles, minivans) for export and the domestic market. At full capacity, the facility (about 2,000 employees) will manufacture up to approximately 250,000 vehicles annually. Components to be purchased from abroad (representing approximately 45% of vehicle material value) would include: diesel and gasoline engines and parts thereof, pumps, oils, compressors, air conditioner components, filters, paint, flexible tubes/hoses, self-adhesive plastic or polyurethane sheets/foil/film, labels, rubber belts, tires, seats, safety glass, engines and parts of engines, mirrors, flat-rolled steel (would be admitted under privileged foreign status (19 CFR 146.41)), stranded wire of steel and copper, body parts and trim, fasteners, cotter pins, catalytic converters, parts of steering systems, half shafts, transmissions and parts of transmissions, differentials, bearings and parts thereof, compasses, thermometers, motors, batteries, ignition parts, lighting equipment, horns, windshield wipers, audio components, antennas, wiring harnesses, handles/knobs, gaskets/seals, carpet sets, seat belts, airbag modules/inflators, brake components, wheels, shock absorbers, radiators, exhaust systems, hinges, pneumatic dampeners, speedometers, tachometers, flow meters, regulators/controllers, windshields and windows, springs, valves, resistors, relays, clocks, and switches (duty rate range: free—9.0%).

FTZ procedures would exempt HMM from Customs duty payments on the foreign components used in export production. On its domestic sales and exports to NAFTA countries, HMM would be able to choose the duty rate that applies to finished passenger vehicles (2.5%) for the foreign inputs noted above that have higher rates. Customs duties would be deferred and possibly reduced on foreign status production equipment. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is February 7, 2003. Rebuttal comments in response to material submitted during the foregoing period may be submitted during the subsequent 15-day period (to February 24, 2003).

A copy of the application will be available for public inspection at the Office of the Foreign-Trade Zones Board's Executive Secretary at address No.1 listed above and at the U.S. Department of Commerce Export Assistance Center, Suite 707, Medical Forum Building, 950 22nd Street North, Birmingham, AL 35203.

Dated: November 27, 2002.
Dennis Puccinelli,
Executive Secretary.

[FR Doc. 02-31036 Filed 12-6-02; 8:45 am]

BILLING CODE 3510-DS-P